DEPARTMENT OF AGRICULTURE

Forest Service

RIN 0596-AC46

Small Business Timber Sale Set-Aside Program Share Recomputation

AGENCY: Forest Service, USDA.

ACTION: Notice of proposed policy directive; correction and extension of public comment.

SUMMARY: The Forest Service published a notice of proposed policy directive in the Federal Register of August 1, 2006 (71 FR 43435), concerning a request for comments on the Small Business Timber Sale Set-Aside Program Share Recomputation. In the Federal Register of August 9, 2006 (71 FR 45519), a correction to content was made and the period for receiving public comments was extended to October 10, 2006.

The notice of August 1, 2006, contained an error in the ADDRESSES caption that is now being corrected. In addition, the date for receiving comments is being extended for an additional 60 days. The DATES caption has been revised to reflect that comments must be received by December 11, 2006.

DATES: Comments must be received in writing by December 11, 2006.

FOR FURTHER INFORMATION CONTACT: Richard Fitzgerald, Assistant Director, Forest Management Staff, by telephone at (202) 205-1753 or by internet at rfitzgerald@fs.fed.us.

Correction

In the Federal Register of August 1, 2006, in FR Doc. E-12310, on page 43435, in the second column, correct the ADDRESSES caption to read: Send written comments by mail to the Director Forest Management, Mail Stop 1103, Forest Service, USDA, 1400 Independence Avenue, SW., Washington, DC 20250-1103; or via facsimile to (202) 205-1045.

Dated: September 22, 2006.
Frederick Norbury,
Associate Deputy Chief for National Forest System.

[FR Doc. E6-16073 Filed 9-28-06; 8:45 am]

BILLING CODE 3410-11-P